DEPARTMENT OF COMMERCE

National Oceanic and Atmospheric Administration

Evaluation of State Coastal Management Programs

AGENCY: National Oceanic and Atmospheric Administration (NOAA), Office of Ocean and Coastal Resource Management, National Ocean Service, Commerce.

ACTION: Notice of intent to evaluate.

SUMMARY: The NOAA Office of Ocean and Coastal Resource Management (OCRM) announces its intent to evaluate the performance of the Massachusetts, Texas, and Michigan Coastal Management Programs.

The Coastal Zone Management Program evaluations will be conducted pursuant to section 312 of the Coastal Zone Management Act of 1972, as amended (CZMA) and regulations at 15 CFR part 923, Subpart L. The CZMA requires continuing review of the performance of states with respect to coastal program implementation. Evaluation of a Coastal Management Program requires findings concerning the extent to which a state has met the national objectives, adhered to its Coastal Management Program document approved by the Secretary of Commerce, and adhered to the terms of financial assistance awards funded under the CZMA.

The evaluations will include a public meeting, consideration of written public comments and consultations with interested Federal, state, and local agencies and members of the public. When the evaluation is completed, OCRM will place a notice in the Federal Register announcing the availability of the Final Evaluation Findings. Notice is hereby given of the date, local time, and location of the public meeting.

Date and Time: The Massachusetts Coastal Management Program public meeting will be held on Thursday, June 5th at 4:30 p.m. local time at the Executive Office of Energy and Environmental Affairs, 2nd Floor Conference Room D, 100 Cambridge Street, Boston, Massachusetts 02114. A picture ID is required for building entry.

The Michigan Coastal Management Program public meeting will be held on Wednesday, June 4th, at 5:00 p.m. local time at Lansing Community College-West Campus, 5708 Cornerstone Drive, Room M119—Section 1, Lansing, Michigan, 48917.

The Texas Coastal Management Program public meeting will be held on Wednesday, June 4th, at 5:00 p.m. local time at Texas A&M University—Corpus Christi Natural Resources Center, 6300 Ocean Drive, Room 1003, Corpus Christi, Texas 78412.

ADDRESSES: Copies of each state's most recent performance report, as well as OCRM's evaluation notification letter to the state, are available upon request from OCRM. Written comments from interested parties regarding these programs are encouraged and will be accepted until June 6, 2014 for the Michigan Coastal Management Program and June 13, 2014 for the Massachusetts and Texas Coastal Management Programs. Please direct written comments to Carrie Hall, Evaluator, National Policy and Evaluation Division, Office of Ocean and Coastal Resource Management, NOS/NOAA, 1305 East-West Highway, 10th Floor,N/ORM7, Silver Spring, Maryland 20910, or Carrie.Hall@noaa.gov.

FOR FURTHER INFORMATION CONTACT: Carrie Hall, Evaluator, National Policy and Evaluation Division, Office of Ocean and Coastal Resource Management, NOS/NOAA, 1305 East-West Highway, 10th Floor, N/ORM7, Silver Spring, Maryland 20910, (301) 563-1135, or Carrie.Hall@noaa.gov.

(Federal Domestic Assistance Catalog 11.419 Coastal Zone Management Program Administration)

Dated: April 11, 2014.
Christopher C. Cartwright,
Associate Assistant Administrator for Management and CFO/CAO, Ocean Services, and Coastal Zone Management National, Oceanic and Atmospheric Administration.

[FR Doc. 2014-08723 Filed 4-16-14; 8:45 am]

BILLING CODE 3510-08-P